DEPARTMENT OF THE INTERIOR

National Park Service

Notice of Inventory Completion: American Museum of Natural History, New York, NY

AGENCY: National Park Service, Interior.

ACTION: Notice.

Notice is here given in accordance with the Native American Graves Protection and Repatriation Act (NAGPRA), 25 U.S.C. 3003, of the completion of an inventory of human remains in the possession of the American Museum of Natural History, New York, NY. The human remains were removed from Montana.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by American Museum of Natural History professional staff in consultation with representatives of the Blackfeet Tribe of the Blackfeet Indian Reservation of Montana.

According to Museum records, at an unknown date, the naturalist Audubon, upon his return from the Rocky Mountains in Montana, gave human remains representing a minimum of two individuals to Dr. A. V. Williams. Dr. Williams subsequently gifted the remains to the American Museum of Natural History in 1900. No known individuals were identified. No associated funerary objects are present.

The individuals have been identified as Native American based on a catalog description of “Blackfeet Indians.” The geographic origin of the remains is consistent with the post-contact territory of the Blackfeet Nation.

Officials of the American Museum of Natural History have determined that, pursuant to 25 U.S.C. 3001 (9-10), the human remains described above represent the physical remains of two individuals of Native American ancestry. Officials of the American Museum of Natural History also have determined that, pursuant to 25 U.S.C. 3001 (2), there is a relationship of shared group identity that can be reasonably traced between the Native American human remains and the Blackfeet Tribe of the Blackfeet Indian Reservation of Montana.

Representatives of any other Indian tribe that believes itself to be culturally affiliated with the human remains should contact Nell Murphy, Director of Cultural Resources, American Museum of Natural History, Central Park West at 79th Street, New York, NY 10024-5192, telephone (212) 769-5837, before July 1, 2005. Repatriation of the human remains to the Blackfeet Tribe of the Blackfeet Indian Reservation of Montana may proceed after that date if no additional claimants come forward.

The American Museum of Natural History is responsible for notifying Blackfeet Tribe of the Blackfeet Indian Reservation of Montana that this notice has been published.

Dated: May 20, 2005
Paul Hoffman,
Deputy Assistant Secretary, Fish and Wildlife and Parks.

[FR Doc. 05-10819 Filed 5-31-05; 8:45 am]

BILLING CODE 4312-50-S